DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Program Evaluation for Prevention Contract (PEPC)—Strategic Prevention Framework for Prescription Drugs (SPF-Rx) Evaluation (OMB No. 0930-0377)—Revision

The Substance Abuse and Mental Health Services Administration's (SAMHSA) Center for Behavioral Health Statistics and Quality (CBHSQ) aims to complete a cross-site evaluation of SAMHSA's Strategic Prevention Framework for Prescription Drugs (SPF-Rx). SPF-Rx is designed to address nonmedical use of prescription drugs as well as opioid overdoses by raising awareness about the dangers of sharing medications and by working with pharmaceutical and medical communities on the risks of overprescribing. The SPF-Rx program aims to promote collaboration between states/tribes and pharmaceutical and medical communities to understand the risks of overprescribing to youth ages 12-17 and adults 18 years of age and older. The program also aims to enhance capacity for, and access to, Prescription Drug Monitoring Program (PDMP) data for prevention purposes. This request for data collection includes a revision from previously approved OMB instruments.

The SPF-Rx program's indicators of success are reductions in opioid overdoses, reduction in prescription drug misuse and improved use of PDMP data. Data collected through the tools described in this statement will be used for the national cross-site evaluation of SAMHSA's SPF-Rx program. This package covers continued data collection through 2023. The PEPC team will systematically collect and maintain an Annual Implementation Instrument (AII) and Grantee and Community Level Outcomes data modules submitted by SPF-Rx grantees through the online Data Management System (DMS).

SAMHSA is requesting approval for data collection for the SPF-Rx cross-site evaluation with the following instruments:

Annual Implementation Instrument (AII)—The AII is a survey instrument collected yearly to monitor state, tribal entity, and community-level performance, and to evaluate the effectiveness of the SPF-Rx program. This tool is completed by grantees and sub-recipient community project directors, and provides process data related to funding use and effectiveness, organizational capacity, collaboration with community partners, data infrastructure, planned intervention targets, intervention implementation, evaluation, contextual factors, training and technical assistance (T/TA) needs, and sustainability.

Grantee- and Community-Level Outcomes Modules—These modules collect data on key SPF-Rx program outcomes, including opioid prescribing patterns and provider use of PDMP. Grantees will provide outcomes data at the grantee level for their state, tribal area, or jurisdiction, as well as at the community level for each of their sub-recipient communities.

Grantee-Level Interview—This qualitative interview will be administered at the end of the evaluation to obtain information from the grantee project directors on their programs, staffing, populations of focus, infrastructure, capacity, lessons learned, and collaboration.

Annualized Data Collection Burden by Year
Instrument | Number of respondents | Responses per respondent | Total number of responses | Hours per response | Total burden hours
Annual Implementation Instrument | 148 | 1 | 148 | 4 | 592
Grantee-Level Outcomes Module | 25 | 1 | 25 | 2.5 | 62.5
Community-Level Outcomes Module | 25 | 4.92 | 123 | 1.25 | 153.75
Grantee-Level Interview | 25 | 1 | 25 | 1.5 | 37.5
FY2021 | 223 |  | 321 |  | 845.75
Annual Implementation Instrument | 148 | 1 | 148 | 4 | 592
Grantee-Level Outcomes Module | 25 | 1 | 25 | 2.5 | 62.5
Community-Level Outcomes Module | 25 | 4.92 | 123 | 1.25 | 154.75
FY2022 | 198 |  | 296 |  | 808.25
Annual Implementation Instrument | 39 | 1 | 39 | 4 | 156
Grantee-Level Outcomes Module | 7 | 1 | 7 | 2.5 | 17.5
Community-Level Outcomes Module | 7 | 4.57 | 32 | 1.25 | 40
FY2023 | 53 |  | 78 |  | 213.5

Send comments to Carlos Graham, SAMHSA Reports Clearance Officer, 5600 Fishers Lane, Room 15E57-A, Rockville, Maryland 20857, OR email a copy to carlos.graham@samhsa.hhs.gov. Written comments should be received by April 24, 2020.

Carlos Graham,
Social Science Analyst.

[FR Doc. 2020-03559 Filed 2-21-20; 8:45 am]

BILLING CODE 4162-20-P